DEPARTMENT OF HOMELAND SECURITY

Coast Guard

33 CFR Part 117

[Docket No. USCG-2025-0309]

Drawbridge Operation Regulation; Old Brazos River, Brazoria County, Texas

AGENCY: Coast Guard, DHS.

ACTION: Notice of temporary deviation from regulations; request for comments.

SUMMARY: The Coast Guard has issued a temporary deviation from the operating regulation that governs the Union Pacific Railroad (UPRR) drawbridge that crosses the Old Brazos River, mile 5.3, near Brazoria, TX. UPRR is requesting to remotely operate the drawbridge from their train yard located in Freeport, TX. This deviation will test a change to the drawbridge operation schedule to determine whether a permanent change to the schedule is needed. The Coast Guard is seeking comments from the public regarding this deviation.

DATES: This deviation is effective from February 6, 2026 through April 7, 2026.

Comments and related material must reach the Coast Guard on or before April 7, 2026.

ADDRESSES: You may submit comments identified by docket number USCG-2025-0309 using Federal Decision Making Portal at https://www.regulations.gov.

See the “Public Participation and Request for Comments” portion of the SUPPLEMENTARY INFORMATION section below for instructions on submitting comments.

FOR FURTHER INFORMATION CONTACT: If you have questions on this test deviation, call or email Douglas Blakemore, Bridge Management Branch Chief, Coast Guard Heartland District at Douglas.A.Blakemore@uscg.mil, 504-671-2127.

SUPPLEMENTARY INFORMATION:

I. Background, Purpose and Legal Basis

The Union Pacific Railroad vertical lift drawbridge crosses the Old Brazos River, mile 5.3, near Freeport, TX. The bridge is maintained in the open-to-boat position and is lowered to allow trains to pass. This bridge at mean high water has a vertical clearance of 10 feet in the closed to boat position, a vertical clearance of 71 feet in the open to boat position and a 228 foot horizontal clearance. The bridge operates according to 33 CFR 117.975. The Old Brazos River is used primarily by small recreational. The bridge lowers about 12 times per day to allow trains to pass.

UPRR has requested to operate this drawbridge from their railroad yard located next to the bridge. UPRR has installed a remote operation system at the bridge and at the railroad yard. Six cameras have been installed at the bridge; one per tower at each corner of the bridge that can be moved to look upriver, downriver and beneath the bridge and 2 cameras that look at the east and west rail tracks. The cameras are equipped with thermal imaging to assist with visibility during inclement weather. There are two sets of sensors that are installed to detect vessels under the bridge: 1 microwave sensor and 1 light detecting and ranging sensor. The remote control station monitors the cameras, sensor systems and communicates to boats with VHF radio and telephone.

During this test, the bridge will be operated by a bridge tender located in the UPRR Train Dispatch Center. A bridge tender will also be stationed at the bridge site to open and close the bridge if needed.

Boats and vessels will contact the remote bridge operator to open the draw on VHF-FM channel 9 or at the phone number posted on the bridge.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision Making Portal at https://www.regulations.gov. To do so, go to https://www.regulations.gov, type USCG-2025-0309 in the search box and click “Search.” Next, look for this document in the Search Results column, and click on it. Then click on the Comment option. If your material cannot be submitted using https://www.regulations.gov, contact the person in the FOR FURTHER INFORMATION CONTACT section of this document for alternate instructions.

View material in the docket. To view documents mentioned in this deviation as being available in the docket, find the docket as described in the previous paragraph, and then select “Supporting & Related Material” in the Document Type column. Public comments will also be placed in our online docket and can be viewed by following instructions on the https://www.regulations.gov Frequently Asked Questions web page. Also, if you go to the online docket and sign up for email alerts, you will be notified when comments are posted, or a final rule is published of any posting or updates to the docket.

We review all comments received, but we will only post comments that address the topic of this deviation. We may choose not to post off-topic, inappropriate, or duplicate comments that we receive.

We accept anonymous comments. Comments we post to https://www.regulations.gov will include any personal information you have provided. For more about privacy and submissions in response to this document, see DHS's eRulemaking System of Records notice (85 FR 14226, March 11, 2020).

Dated: January 30, 2026.
Douglas A. Blakemore,
U.S. Coast Guard, Coast Guard Heartland District. Bridge Administration Branch Chief.

[FR Doc. 2026-02373 Filed 2-5-26; 8:45 am]

BILLING CODE 9110-04-P